FEDERAL COMMUNICATIONS COMMISSION

47 CFR Part 73

[DA 00-1323; MM Docket No. 99-348; RM-9765]

Radio Broadcasting Services; Tallulah, LA

AGENCY: Federal Communications Commission.

ACTION: Final rule.

SUMMARY: This document allots Channel 248A to Tallulah, Louisiana, as that community's second local FM transmission service, in response to a petition for rule making filed by Joe Kool Broadcasting. See 64 FR 73464, December 30, 1999. Coordinates used for Channel 248A at Tallulah, Louisiana, are 32-25-07 NL and 91-12-15 WL.

DATES: Effective July 31, 2000. A filing window for Channel 248A at Tallulah, Louisiana, will not be opened at this time. Instead, the issue of opening a filing window for this channel will be addressed by the Commission in a subsequent Order.

FOR FURTHER INFORMATION CONTACT: Nancy Joyner, Mass Media Bureau, (202) 418-2180. Questions related to the application filing process for Channel 248A at Tallulah, Louisiana, should be addressed to the Audio Services Division, (202) 418-2700.

SUPPLEMENTARY INFORMATION: This is a synopsis of the Commission's Report and Order, MM Docket No. 99-348, adopted June 7, 2000, and released June 16, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Louisiana, is amended by adding Channel Channel 248A at Tallulah.

Federal Communications Commission.
John A. Karousos,
Chief, Allocations Branch, Policy and Rules Division, Mass Media Bureau.

[FR Doc. 00-16869 Filed 7-3-00; 8:45 am]

BILLING CODE 6712-01-U